SMALL BUSINESS ADMINISTRATION

[Declaration of Disaster #P031]

State of New Mexico

As a result of the President's major disaster declaration for Public Assistance on April 29, 2004, the U.S. Small Business Administration is activating its disaster loan program only for private non-profit organizations that provide essential services of a governmental nature. I find that Bernalillo, Eddy, Mora and San Miguel Counties in the State of New Mexico constitute a disaster area due to damages caused by severe storms and flooding occurring on April 2 through April 11, 2004. Applications for loans for physical damage as a result of this disaster may be filed until the close of business on June 28, 2004 at the address listed below or other locally announced locations: U.S. Small Business Administration, Disaster Area 3 Office, 14925 Kingsport Road, Fort Worth, TX 76155-2243.

The interest rates are:

| Percent
For Physical Damage:
Non-Profit Organizations Without Credit Available Elsewhere | 2.900
Non-Profit Organizations With Credit Available Elsewhere | 4.875

The number assigned to this disaster for physical damage is P03111.

(Catalog of Federal Domestic Assistance Program No. 59008)
Dated: May 3, 2004.
Herbert L. Mitchell,
Associate Administrator for Disaster Assistance.

[FR Doc. 04-10519 Filed 5-7-04; 8:45 am]

BILLING CODE 8025-01-P